ENVIRONMENTAL PROTECTION AGENCY

40 CFR Parts 72 and 75

[EPA-HQ-OAR-2009-0837; FRL-9450-6]

RIN 2060-AQ06

Protocol Gas Verification Program and Minimum Competency Requirements for Air Emission Testing; Corrections

AGENCY: Environmental Protection Agency (EPA).

ACTION: Proposed rule.

SUMMARY: EPA is proposing to correct certain portions of the Protocol Gas Verification Program and Minimum Competency Requirements for Air Emission Testing rule. EPA published in the Federal Register of March 28, 2011 (76 FR 17288), a final rule that amends the Agency's Protocol Gas Verification Program (PGVP) and the minimum competency requirements for Air Emission Testing Bodies (AETBs), and makes a number of other changes to the regulation. After the final rule was published, it was brought to our attention that there are some incorrect and incomplete statements in the preamble, some potentially confusing statements in a paragraph of the rule text, and the title of Appendix D to Part 75 was inadvertently changed and is incorrect.

DATES: Written comments must be received by September 12, 2011.

ADDRESSES: Submit your comments, identified by Docket ID No. EPA-HQ-OAR-2009-0837, by mail to: Air and Radiation Docket and Information Center, U.S. Environmental Protection Agency, Mailcode: 2822T, 1200 Pennsylvania Avenue, NW., Washington, DC 20460. Comments may also be submitted electronically or through hand delivery/courier by following the detailed instructions in the ADDRESSES section of the direct final rule located in the rules section of this Federal Register.

FOR FURTHER INFORMATION CONTACT: John Schakenbach, U.S. Environmental Protection Agency, Clean Air Markets Division, MC 6204J, Ariel Rios Building, 1200 Pennsylvania Ave., NW., Washington, DC 20460, telephone (202) 343-9158, e-mail at schakenbach.john@epa.gov. Electronic copies of this document can be accessed through the EPA Web site at: http://epa.gov/airmarkets.

SUPPLEMENTARY INFORMATION: This document proposes to take action on certain portions of the Protocol Gas Verification Program and Minimum Competency Requirements for Air Emission Testing rule. We have published a direct final rule to amend the March 28, 2011 final regulation (76 FR 17288) by removing two inaccurate preamble statements, correcting one incomplete preamble statement, clarifying the text of § 75.4(e), and correcting the title of Appendix D to Part 75 in the “Rules and Regulations” section of this Federal Register because we view this as a non-controversial action and anticipate no adverse comment.

We have explained our reasons for this action in the preamble to the direct final rule. If we receive no adverse comment, we will not take further action on this proposed rule. If we receive adverse comment, we will withdraw the direct final rule and it will not take effect. We would address all public comments in any subsequent final rule based on this proposed rule.

We do not intend to institute a second comment period on this action. Any parties interested in commenting must do so at this time. For further information, please see the information provided in the ADDRESSES section of this document.

Dated: August 3, 2011.
Lisa P. Jackson,
Administrator.

[FR Doc. 2011-20450 Filed 8-11-11; 8:45 am]

BILLING CODE 6560-50-P